FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 8, 2015.

A. Federal Reserve Bank of Richmond (Adam M. Drimer, Assistant Vice President) 701 East Byrd Street, Richmond, Virginia 23261-4528:

1. The Asheville Savings Bank, S.S.B. Employee Stock Ownership Plan, Asheville, North Carolina, and its trustee, Pentegra Trust Company, Shelton, Connecticut; to retain voting shares of ASB Bancorp, Inc., and thereby indirectly retain voting shares of Ashville Savings Bank, SSB, both in Asheville, North Carolina.

Board of Governors of the Federal Reserve System, September 18, 2015.
Margaret McCloskey Shanks,
Deputy Secretary of the Board.

[FR Doc. 2015-24138 Filed 9-22-15; 8:45 am]

BILLING CODE 6210-01-P